DEPARTMENT OF COMMERCE

Bureau of Industry and Security

[Docket No.: 100111018-0020-01]

Meeting With Interested Public on Offsets in Defense Trade

AGENCY: Bureau of Industry and Security, Department of Commerce.

ACTION: Notice of open meeting.

SUMMARY: The Bureau of Industry and Security (BIS) publishes this notice to announce that the agency will hold a meeting on February 3, 2010 for organizations interested in learning about the changes in the reporting requirement for U.S. firms engaged in offsets in defense trade, pursuant to Title 15 of the Code of Federal Regulations, part 701, as provided under the rule BIS published in the Federal Register on December 23, 2009. U.S. Government officials will provide information at this meeting on the changes in the reporting requirements for offset agreements and transactions. This meeting is open to the public.

DATES: The meeting will be held on February 3, 2010, 1:30 p.m. e.s.t.

ADDRESSES: If you wish to attend the meeting, please provide your name and company or organizational affiliation to fax number (202) 482-5650, Attn: Offset Briefing, or call (202) 482-3755. If you are a foreign national wishing to attend the meeting, you are required to provide additional information for entry to the U.S. Department of Commerce facility. Please contact Ron DeMarines at (202) 482-3755 in advance of the meeting for more information on the entry requirements for foreign nationals. The meeting will be held at the Herbert C. Hoover Building, 14th Street between Constitution and Pennsylvania Avenues, NW., Room 4830, Washington, DC.

FOR FURTHER INFORMATION CONTACT: For further information, please contact Ronald DeMarines at BIS on (202) 482-3755 or (202) 482-4506.

SUPPLEMENTARY INFORMATION: On December 23, 2009, BIS published a Final Rule in the Federal Register that updates and provides clarification with regard to the information U.S. firms are required to submit each year to BIS to support BIS's preparation of its annual report to Congress on offsets in defense trade. As set forth in the December 23, 2009 rule, the revised amendments will provide more consistency and less ambiguity in defining the scope of the offset-related activities that respondents report to BIS. Further, the rule responded to a recommendation made by the Government Accountability Office to BIS regarding the collection of more precise information on the industry sectors in which offset activity occurs. The full text of the rule is available at 74 FR 68136. In order to provide more information on the changes to the offset-related reporting requirement, BIS will hold a meeting on February 3, 2010. This meeting is open to the public. In order to prepare for those who plan to attend the meeting, please submit your name and company or organizational affiliation to BIS via fax or phone number provided in the ADDRESSES section.

Dated: January 19, 2010.
Karen H. Nies-Vogel,
Acting Director, Office of Strategic Industry and Economic Security.

[FR Doc. 2010-1207 Filed 1-21-10; 8:45 am]

BILLING CODE 3510-JT-P